DEPARTMENT OF THE INTERIOR

Office of the Secretary

Revision of Information Collection; Non-Use Valuation Survey, Klamath Basin

AGENCY: U.S. Department of the Interior.

ACTION: Notice; request for comments.

SUMMARY: In compliance with section 3506(c)(2)(A) of the Paperwork Reduction Act of 1995, the Office of the Secretary of the Department of the Interior announces the proposed revision of an information collection “Klamath Non-use Valuation Survey,” Office of Management and Budget (OMB) Control No. 1090-0010, and that it is seeking comments on its provisions. As required by the Paperwork Reduction Act of 1995 and as part of our continuing efforts to reduce paperwork and respondent burden, we invite the general public and other Federal agencies to take this opportunity to comment on this information collection.

ADDRESSES: You may submit your comments directly to the Desk Officer for the Department of the Interior (OMB 1090-0010), Office of Information and Regulatory Affairs, OMB, by electronic mail at OIRA_DOCKET@omb.eop.gov or by fax at 202-395-5806. Please also send a copy of your comments to the Department of the Interior; Office of Policy Analysis, Attention: Don Bieniewicz, Mail Stop 3530; 1849 C Street, NW., Washington, DC 20240. If you wish to e-mail comments, the e-mail address is Donald_Bieniewicz@ios.doi.gov. Reference “Klamath Non-use valuation survey” in your e-mail subject line. Include your name and return address in your e-mail message and mark your message for return receipt.

DATES: OMB has 60 days to review this request but may act after 30 days, therefore you should submit your comments on or before September 29, 2010.

FOR FURTHER INFORMATION CONTACT: Benjamin Simon, Economics Staff Director, Office of Policy Analysis, U.S. Department of the Interior telephone at 202-208-5978 or by e-mail at Benjamin_Simon@ios.doi.gov.

SUPPLEMENTARY INFORMATION:

I. Abstract

Office of Management and Budget (OMB) regulations at 5 CFR 1320, which implement the Paperwork Reduction Act of 1995 (Pub. L. 104-13), require that interested members of the public and affected agencies have an opportunity to comment on information collection and recordkeeping activities (see 5 CFR 1320.8 (d)). This notice identifies an information collection activity that the Office of the Secretary will submit to OMB for revision.

The Klamath River provides habitat for fall and spring run Chinook salmon (Oncorhynchus tshawytscha), coho salmon (Oncorhynchus kisutch), steelhead trout (Oncorhynchus mykiss), green sturgeon (Acipenser medirostris), Pacific lamprey (Lampetra tridentate), and Pacific eulachon (Thaleichthys pacificus). Some of these species are important components of non-tribal harvest (e.g., fall Chinook, steelhead), some have important subsistence and cultural value to Klamath Basin tribes (e.g., salmon, sturgeon, lamprey, eulachon), and some are at low levels of abundance or Endangered Species Act-listed (e.g., spring Chinook, lamprey, coho, eulachon). In addition to its importance as fish habitat, the Klamath River also provides water to agriculture through the Bureau of Reclamation's Klamath Irrigation Project. Oversubscription of Klamath water has thwarted recovery of depressed fish stocks and led to economic hardship for farming and fishing communities—prompting Federal disaster relief for farmers in 2001 and for fishermen in 2006.

In November 2008 the U.S. Government, the States of Oregon and California, and the utility company PacifiCorp signed an agreement in principle (AIP) to remove four hydroelectric dams on the Klamath River by 2020. Dam removal is being considered a viable alternative to volitional fish passage (ladders and screens), which was being considered by the Federal Energy Regulatory Commission (FERC) as a condition for relicensing of PacifiCorp's hydroelectric project. Parties to the AIP are working with stakeholders (including tribes, fishers, farmers, conservation groups, and local governments) to reach a final agreement that would result in the largest dam removal project in U.S. history. If achieved, this agreement will be part of a comprehensive solution to species recovery, water allocation, and water quality problems in the Klamath Basin.

In October 2011 the Secretary of the Interior is expected to make a final determination regarding dam removal, contingent on results of an economic analysis that will address benefits, costs, and distributional effects of dam removal relative to volitional fish passage. Dam removal is expected to have positive long-term effects on the viability of fish populations and other aspects of the Klamath Basin ecosystem. Benefits of these environmental improvements include “non-use values,” which accrue to members of the public who value such improvements regardless of whether they ever consume Klamath fish or visit the Klamath Basin. An information collection is planned in order to implement a state-of-the-art non-use valuation survey of the U.S. public that addresses the incremental environmental improvements of dam removal relative to volitional fish passage. This data collection is intended to address one component of an economic analysis that will include all costs and benefits of dam removal relative to volitional fish passage.

II. Data

Title: Klamath Non-Use Valuation Survey.

OMB Control Number: 1090-0010.

Type of Review: Revision of an approved collection.

Affected Entities: Households.

Respondent's Obligation: Voluntary.

Frequency of Response: One time.

Estimated Annual Number of Respondents: 10,885 households who will receive the survey (3,389 respondents and 7,496 non-respondents).

Estimated Total Annual Responses: 3,389.

Estimated Time per Response: The base for this survey is 10,885 households. The households will be divided into two mailing groups, at a 10/90 split. The first wave of mailings will be to 10% of the households. 17% of households are estimated to respond, which will take 30 minutes. Non-respondents will take 3 minutes. The second mailing will be sent to the remaining 83% of non-respondent households. 10% of the households are estimated to respond to the second mailing, taking 30 minutes. The second group of non-respondents are estimated to spend 3 minutes. The Department will then conduct preliminary analysis.

The second wave of mailings will be to the remaining 90% of the households. 17% of households are estimated to respond, which will take 30 minutes. Non-respondents will take 3 minutes. The second phase will be sent to the remaining 83% of non-respondent households. 10% of the households are estimated to respond to the second mailing, taking 30 minutes. The second group of non-respondents are estimated to spend 3 minutes.

The remaining non-respondents from the second mailings will be split into two groups in a 80/20 split. It is assumed that 65% of the non-respondent households will have a phone number. Both groups will be sent another copy of the survey. For the households with a phone number, a non response bias call will be made, taking an estimated 2 to 5 minutes.

Estimated Total Annual Burden Hours: 3,205 hours.

III. Request for Comments

On June 9, 2009, we published in the Federal Register (74 FR 27340) a request for public comments on this proposed survey. No comments were received. This notice provides the public with an additional 30 days in which to comment on the proposed information collection activity. The Department of the Interior invites comments on:

(1) Whether or not the collection of information is necessary for the proper performance of the functions of the agency, including whether the information will have practical utility;

(2) The accuracy of the agency's estimate of the burden of the collection and the validity of the methodology and assumptions used;

(3) Ways to enhance the quality, utility, and clarity of the information to be collected; and

(4) Ways to minimize the burden of the collection of information on those who are to respond, including through the use of appropriate automated, electronic, mechanical, or other collection techniques or other forms of information technology.

Burden means the total time, effort, or financial resources expended by persons to generate, maintain, retain, disclose, or prove information to or for a Federal agency.

An agency may not conduct or sponsor, and a person is not required to respond to, a collection of information unless it displays a currently valid Office of Management and Budget control number.

Dated: August 25, 2010.
Benjamin M. Simon,
Economics Staff Director, Office of Policy Analysis.

[FR Doc. 2010-21521 Filed 8-27-10; 8:45 am]

BILLING CODE 4310-RK-P